DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2016, through July 31, 2016. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of Health and Human Services) and the docket number assigned to the petition should be used as the caption for the written submission. Chapter 35 of title 44, United States Code, related to paperwork reduction, does not apply to information required for purposes of carrying out the Program.

Dated: August 18, 2016.
James Macrae,
Acting Administrator.

List of Petitions Filed

1. Joel Flores, San Antonio, Texas, Court of Federal Claims No: 16-0788V.

2. Katie Tambouris, Manchester, New Hampshire, Court of Federal Claims No: 16-0790V.

3. Cassie Keener, Fort Worth, Texas, Court of Federal Claims No: 16-0791V.

4. Manya Cetlin-Salter, Exeter, New Hampshire, Court of Federal Claims No: 16-0792V.

5. Gabrielle Salomone, Philadelphia, Pennsylvania, Court of Federal Claims No: 16-0795V.

6. Tara Hurley, Pawtucket, Rhode Island, Court of Federal Claims No: 16-0797V.

7. Malka Nussbaum on behalf of S. N., Queens, New York, Court of Federal Claims No: 16-0799V.

8. Donna Deaton, Gibsonville, North Carolina, Court of Federal Claims No: 16-0802V.

9. Fredric C. Thompson, Gray, Maine, Court of Federal Claims No: 16-0803V.

10. Sharlee Funai, Wailuku, Hawaii, Court of Federal Claims No: 16-0807V.

11. Dolores Soltero Arias, Auburn, Washington, Court of Federal Claims No: 16-0808V.

12. Luisa Gomes, Dorchester, Massachusetts, Court of Federal Claims No: 16-0809V.

13. Linda Saucedo, Indialantic, Florida, Court of Federal Claims No: 16-0810V.

14. Tasha Loyd on behalf of C. L., Tampa, Florida, Court of Federal Claims No: 16-0811V.

15. Rebekah R. Codde on behalf of I. R. H., Sacramento, California, Court of Federal Claims No: 16-0812V.

16. Maureen Revaitis and Chris Revaitis on behalf of J. R. Marlton, New Jersey, Court of Federal Claims No: 16-0813V.

17. Mary Butler, San Mateo, California, Court of Federal Claims No: 16-0814V.

18. David Palmieri, Galloway, New Jersey, Court of Federal Claims No: 16-0818V.

19. Connor Toes, Phoenix, Arizona, Court of Federal Claims No: 16-0819V.

20. Robert Chirempes, Chicago, Illinois, Court of Federal Claims No: 16-0820V.

21. Christopher Thornton, St. Louis, Missouri, Court of Federal Claims No: 16-0822V.

22. Dan Wojchiechowski, St. Louis, Missouri, Court of Federal Claims No: 16-0823V.

23. Sherika English, Raleigh, North Carolina, Court of Federal Claims No: 16-0825V.

24. Robert Brett Maxwell, Atlanta, Georgia, Court of Federal Claims No: 16-0827V.

25. Vicki Carey on behalf of C. C., Phoenix, Arizona, Court of Federal Claims No: 16-0828V.

26. Susan J. Swanson, Spokane, Washington, Court of Federal Claims No: 16-0831V.

27. Brent Owens, Wilmington, North Carolina, Court of Federal Claims No: 16-0832V.

28. Hannah Diedrich, Annapolis, Maryland, Court of Federal Claims No: 16-0833V.

29. Pradeep Sharma, Birmingham, Alabama, Court of Federal Claims No: 16-0834V.

30. Sue A. Little, Fort Collins, Colorado, Court of Federal Claims No: 16-0836V.

31. Tina Nizza, York, Pennsylvania, Court of Federal Claims No: 16-0838V.

32. Kimberly Miller, Shelby Township, Michigan, Court of Federal Claims No: 16-0841V.

33. Rachel Nolt, Columbus, Georgia, Court of Federal Claims No: 16-0842V.

34. Thomas Winiesdorffer, Novi, Michigan, Court of Federal Claims No: 16-0843V.

35. Paul Smith, Dallas, Texas, Court of Federal Claims No: 16-0844V.

36. Gerald O'Connor, Chicago, Illinois, Court of Federal Claims No: 16-0846V.

37. Deborah Aldora, Effingham, Illinois, Court of Federal Claims No: 16-0847V.

38. Holly D. Patel, Hertfordshire, International Address, Court of Federal Claims No: 16-0848V.

39. Robert Hart, Chicago, Illinois, Court of Federal Claims No: 16-0849V.

40. Carrie Brazelton, Washington, District of Columbia, Court of Federal Claims No: 16-0851V.

41. Amy Carter on behalf of A. C., Wellesley Hills, Massachusetts, Court of Federal Claims No: 16-0852V.

42. Leslie Dobbins, Ocean Springs, Mississippi, Court of Federal Claims No: 16-0854V.

43. Kathryn N. Lake on behalf of J. M., Red Bluff, California, Court of Federal Claims No: 16-0856V.

44. Brenda Smith, Atlanta, Georgia, Court of Federal Claims No: 16-0858V.

45. Johana Marini, Sanford, Florida, Court of Federal Claims No: 16-0859V.

46. Michele Meadows, Poplarville, Mississippi, Court of Federal Claims No: 16-0861V.

47. Charles Davis, Norristown, Pennsylvania, Court of Federal Claims No: 16-0862V.

48. Isaac P. Jones, New York, New York, Court of Federal Claims No: 16-0864V.

49. Paola Freyre, Miami, Florida, Court of Federal Claims No: 16-0866V.

50. Kay Tipps and Cathell Tipps on behalf of K. T., Dallas, Texas, Court of Federal Claims No: 16-0867V.

51. Vacilis Kollias, Palo Alto, California, Court of Federal Claims No: 16-0868V.

52. Steven Fenn, Minneapolis, Minnesota, Court of Federal Claims No: 16-0873V.

53. Bryan Brutsch, Denver, Colorado, Court of Federal Claims No: 16-0874V.

54. Jon Martin, Henderson, Nevada, Court of Federal Claims No: 16-0875V.

55. Patricia Crowding, Dresher, Pennsylvania, Court of Federal Claims No: 16-0876V.

56. Marion Kitty, New Britain, Pennsylvania, Court of Federal Claims No: 16-0877V.

57. Douglas Kelly, Glendale, Colorado, Court of Federal Claims No: 16-0878V.

58. Lillian Barna, Punta Gorda, Florida, Court of Federal Claims No: 16-0879V.

59. Ralph Parmer, Barberton, Ohio, Court of Federal Claims No: 16-0880V.

60. David Prokopchuk, Houston, Texas, Court of Federal Claims No: 16-0881V.

61. Karen Garrett, Huntsville, Alabama, Court of Federal Claims No: 16-0882V.

62. Sean Miller and April Miller on behalf of Azyriah E. , Miller Lincoln, Nebraska, Court of Federal Claims No: 16-0883V.

63. Alex Bechel and Tess Bechel on behalf of G. J. B., Lexington, Kentucky, Court of Federal Claims No: 16-0887V.

64. Nancy Day, Catonsville, Maryland, Court of Federal Claims No: 16-0888V.

65. Melissa Green-Heck, Boston, Massachusetts, Court of Federal Claims No: 16-0889V.

66. Yolanda Valdez, Santa Ana, California, Court of Federal Claims No: 16-0890V.

67. James Glover, Washington, District of Columbia, Court of Federal Claims No: 16-0891V.

68. Kathleen Kunka, Cortland, Ohio, Court of Federal Claims No: 16-0892V.

69. Sam Howard, Washington, District of Columbia, Court of Federal Claims No: 16-0894V.

70. David Fultz, Washington, District of Columbia, Court of Federal Claims No: 16-0895V.

71. Catherine Gonzales, Washington, District of Columbia, Court of Federal Claims No: 16-0896V.

72. Lisa Webb, Dresher, Pennsylvania, Court of Federal Claims No: 16-0897V.

73. Monica Miller on behalf of G. M., Memphis, Tennessee, Court of Federal Claims No: 16-0898V.

74. Phyllis Blanda, Las Vegas, Nevada, Court of Federal Claims No: 16-0899V.

75. Diane Johnson, Las Vegas, Nevada, Court of Federal Claims No: 16-0900V.

76. Richard Schussler, Las Vegas, Nevada, Court of Federal Claims No: 16-0901V.

77. Jerry Banks, Sarasota, Florida, Court of Federal Claims No: 16-0902V.

78. Ramonita Burgos Cancel on behalf of M. R., Boston, Massachusetts, Court of Federal Claims No: 16-0903V.

79. John Roberts Phillips, San Mateo, California, Court of Federal Claims No: 16-0906V.

80. Eloise M. Viater, Littleton, Colorado, Court of Federal Claims No: 16-0907V.

81. Edward Rodier, Saybrook, Connecticut, Court of Federal Claims No: 16-0908V.

[FR Doc. 2016-20519 Filed 8-25-16; 8:45 am]

BILLING CODE 4165-15-P